DEPARTMENT OF THE INTERIOR

Bureau of Land Management

[LLNVB00000.L1430000.ES0000 241A; N-46271, N-51416, N-75424; 13-08807; MO# 4500048559; TAS: 14X1109]

Notice of Realty Action: Termination of Recreation and Public Purposes Act Classifications and Opening of Lands in Nye and Esmeralda Counties; NV

AGENCY: Bureau of Land Management, Interior.

ACTION: Notice.

SUMMARY: This notice terminates the existing classifications in their entirety for public lands at three locations that were classified as suitable for lease/disposal under the Recreation and Public Purposes (R&PP) Act of June 14, 1926, as amended. Additionally, this notice opens these public lands to the operation of the public land laws generally, including the 1872 Mining Law. The classification termination and opening order will affect 30 acres of public lands within Nye County, Nevada, and 40 acres of public lands within Esmeralda County, Nevada.

DATES: The effective date is April 30, 2013.

FOR FURTHER INFORMATION CONTACT: Mark Ennes, Assistant Field Manager, Non-Renewable Resources, Tonopah Field Office, 1553 South Main, P.O. Box 911, Tonopah, NV; phone: 775-482-7800; or email: mennes@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: On November 19, 1987, the Bureau of Land Management (BLM) published a notice in the Federal Register (52 FR 44492) announcing the classification of 20 acres of public land under its jurisdiction as suitable for lease/disposal pursuant to the R&PP Act. Upon classification, the BLM leased the land to Nye County for construction, operation, and maintenance of a recreation site consisting of a fish pond and picnic area at Rye Patch Creek, near Tonopah, Nevada under BLM Serial Number N-46271. This lease expired on December 18, 2008. Nye County requested relinquishment of the lease, and the BLM accepted relinquishment on September 27, 2011.

Pursuant to 43 CFR 2091.2-2 and 2461.5(c)(2), and upon publication of this notice in the Federal Register, the BLM is terminating the classification N-46271 in its entirety for the subject land, which is described as follows:

Mount Diablo Meridian

T. 4 N., R. 44 E.,

Sec. 19, SE¼NW¼SE¼, NE¼SW¼SE¼.

The area described contains 20 acres in Nye County, Nevada.

In the Federal Register on August 2, 1990 (55 FR 31450), the BLM classified 10 acres of public land under its jurisdiction as suitable for lease/disposal pursuant to the R&PP Act. Upon classification, the BLM leased the land to the Beatty General Improvement District for construction, operation, and maintenance of a public park, located in Beatty, Nevada under BLM Serial Number N-51416. On December 19, 2010, the lease expired. The site had not been developed in accordance with the terms and conditions of the lease. Therefore, the lease was terminated on November 16, 2011.

Pursuant to 43 CFR 2091.2-2 and 2461.5(c)(2), and upon publication of this notice in the Federal Register, the BLM is terminating the classification N-51416 in its entirety for the subject land, which is described as follows:

Mount Diablo Meridian

T. 12 S., R. 47 E.,

Sec. 7, Lots 22, 23, 26, and 27.

The area described contains 10 acres in Nye County, Nevada.

The two areas described aggregate 30 acres in Nye County, Nevada.

In the Federal Register on April 17, 2003 (68 FR 19001), the BLM classified 40 acres of public land under its jurisdiction as suitable for lease/disposal pursuant to the R&PP Act. Upon classification, the BLM leased the land to Esmeralda County for construction, operation, and maintenance of an Emergency Services Training Center, located in Silver Peak, Nevada under BLM Serial Number N-75424. On August 15, 2011, Esmeralda County requested relinquishment of the lease, and the BLM accepted the relinquishment on September 16, 2011.

Pursuant to 43 CFR 2091.2-2 and 2461.5(c)(2), and upon publication of this notice in the Federal Register, the BLM is terminating the classification N-75424 in its entirety for the subject land, which is described as follows:

Mount Diablo Meridian

T. 2 S., R. 39 E.,

Sec. 21, E½SE¼SE¼;

Sec. 27, NW¼NW¼NW¼;

Sec. 28, NE¼NE¼NE¼.

The area described contains 40 acres in Esmeralda County, Nevada.

At 8:30 a.m., on April 30, 2013, the 70 acres of public lands described above will be opened to operation of the public land laws generally, subject to valid existing rights, the provisions of existing withdrawals, and the requirements of applicable law. All valid existing applications received at or prior to 8:30 a.m. on April 30, 2013, will be considered as simultaneously filed at that time. Those received thereafter will be considered in the order of filing.

At 8:30 a.m. on April 30, 2013, the 70 acres of public lands described above will be opened to location and entry under the United States mining laws. Appropriation under the general mining laws prior to the date and time of restoration is unauthorized. Any such attempted appropriation, including attempted adverse possession under 30 U.S.C. Sec. 38, shall vest no rights against the United States. Acts required to establish a location and to initiate a right of possession are governed by State law where not in conflict with Federal law. The BLM will not intervene in disputes between rival locators over possessory rights since Congress has provided for such determination in local courts.

Authority: 43 CFR 2091.2-2 and 43 CFR 2461.5(c)(2).

Thomas J. Seley,
Manager, Tonopah Field Office.

[FR Doc. 2013-10108 Filed 4-29-13; 8:45 am]

BILLING CODE 4310-HC-P